POSTAL SERVICE

39 CFR Part 111

Group E Post Office Box Service

AGENCY: Postal Service™.

ACTION: Proposed rule.

SUMMARY: The Postal Service is revising the Mailing Standards of the United States Postal Service, Domestic Mail Manual (DMM®) 508.4.6 to clarify eligibility, to simplify the standards, and to facilitate uniform administration for Group E (free) Post Office™ (PO) Box service.

DATES: We must receive your comments on or before December 27, 2010.

ADDRESSES: Mail or deliver written comments to the Manager, Mailing Standards, U.S. Postal Service®, 475 L'Enfant Plaza, SW., Room 4446, Washington DC 20260-4446. You may inspect and photocopy all written comments at USPS® Headquarters Library, 475 L'Enfant Plaza SW, 11th Floor N, Washington, DC between 9 a.m. and 4 p.m., Monday through Friday. E-mail comments concerning the proposed box eligibility, containing the name and address of the commenter, may be sent to: MailingStandards@usps.gov, with a subject line of “Group E PO Box comments.” Faxed comments are not accepted.

FOR FURTHER INFORMATION CONTACT: Laurence Welling at 202-268-7792 or Yvonne Gifford at 202-268-8082.

SUPPLEMENTARY INFORMATION: Group E PO Box™ service is provided free, with restrictions, to customers whose physical addresses do not receive any form of USPS carrier delivery service.

For this proposed rule, the Postal Service removes the descriptive term, “business location”, in favor of the general term “physical address”. The latter describes residential locations as well as business locations and no distinction between the two terms was intended.

USPS further deletes the reference to “out-of-bounds delivery receptacles” in favor of language recognizing that Group E PO Box service is not available when a physical address receives any form of USPS carrier delivery. Confusion over the intent of the meaning of “out-of-bounds” obscured the larger context wherein Group E service should never supplement a physical location's carrier delivery service. Clarifying the intent and eliminating this confusion may cause existing Group E customers to lose Group E eligibility for their physical addresses, while others whose physical locations the USPS chooses not to provide carrier service to may become eligible for Group E service.

The Postal Service also revises DMM 508.4.6.3 to acknowledge carrier delivery service, once established to a particular physical address, eliminates Group E eligibility. Improved language in this section illustrates situations where no eligibility for Group E arises either because carrier delivery is available or because action (or inaction) by third parties precludes USPS from extending carrier delivery.

Although we are exempt from the notice and comment requirements of the Administrative Procedure Act [5 U.S.C. of 553 (b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

500 Additional Mailing Services

* * * * *

508 Recipient Services

* * * * *

4.0 Post Office Box Service

* * * * *

4.6 Fee Group Assignments

* * * * *

[Revise title, introductory text and items 4.6.2a, b and c, and eliminate item d in its entirety as follows:]

4.6.2 Free PO Box Service (Group E)

Customers may qualify for Group E (free) PO Box service at a Post Office location if their physical address location meets all of the following criteria:

a. The physical address is within the geographic delivery ZIP Code boundaries administered by a Post Office.

b. The physical address constitutes a potential carrier delivery point of service.

c. USPS does not provide carrier delivery to a mail receptacle at or near that physical address for reasons other than the conditions in 4.6.3b.

[Revise title and introductory text of 4.6.3 and add new items a through d as follows:]

4.6.3 Additional Standards for Free PO Box Service

Only one Group E (free) PO Box may be obtained for each potential carrier delivery point of service, under the following conditions:

a. Group E PO Box customers are assigned the smallest available box that reasonably accommodates their daily mail volume.

b. Eligibility for Group E PO Boxes does not extend to:

1. Individual tenants, contractors, employees, or other individuals receiving or eligible to receive single-point delivery to a location such as a hotel, college, military installation, campground, or transient trailer park.

2. Locations served, or eligible to be served, by centralized delivery or grouped receptacles such as cluster box units, apartment style receptacles, mailrooms, or clusters of roadside receptacles.

3. Locations where town ordinances, private roads, gated communities, unimproved or poorly maintained roadways, unsafe conditions, or other conditions preclude extension of carrier delivery.

4. Locations served by a delivery receptacle that a customer chooses to locate along a carrier's line of travel, and to which the Postal Service makes delivery.

c. A customer must pay the applicable fee for each PO Box requested in addition to the initial free Group E PO Box.

d. The online application tools described in 4.3.1b cannot be used for free PO Box service.

* * * * *

We will publish an appropriate amendment to 39 CFR part 111 to reflect these changes if our proposal is adopted.

Stanley F. Mires,
Chief Counsel, Legislative.

[FR Doc. 2010-29537 Filed 11-23-10; 8:45 am]

BILLING CODE 7710-12-P